DEPARTMENT OF TRANSPORTATION

Federal Aviation Administration

14 CFR Part 97

[Docket No. 31427; Amdt. No. 4007]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 16, 2022. The compliance date for each SIAP, associated Takeoff Minimums, and ODP is specified in the amendatory provisions.

The incorporation by reference of certain publications listed in the regulations is approved by the Director of the Federal Register as of May 16, 2022.

ADDRESSES: Availability of matters incorporated by reference in the amendment is as follows:

For Examination

1. U.S. Department of Transportation, Docket Ops-M30. 1200 New Jersey Avenue SE, West Bldg., Ground Floor, Washington, DC 20590-0001.

2. The FAA Air Traffic Organization Service Area in which the affected airport is located;

3. The office of Aeronautical Information Services, 6500 South MacArthur Blvd., Oklahoma City, OK 73169 or,

4. The National Archives and Records Administration (NARA). For information on the availability of this material at NARA, email fr.inspection@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air Traffic Control, Airports, Incorporation by reference, Navigation (Air).

Issued in Washington, DC, on April 29, 2022.
Thomas J. Nichols,
Aviation Safety, Flight Standards Service, Manager, Standards Section, Flight Procedures & Airspace Group, Flight Technologies & Procedures Division.

Adoption of the Amendment

Accordingly, pursuant to the authority delegated to me, Title 14, Code of Federal Regulations, Part 97 (14 CRF part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 16 June 2022

Colby, KS, KCBK, RNAV (GPS) RWY 17, Amdt 2

Ponca City, OK, KPNC, ILS OR LOC RWY 17, Amdt 3B

Ponca City, OK, KPNC, RNAV (GPS) RWY 17, Amdt 1B

Effective 14 July 2022

Iliamna, AK, PAIL, RNAV (GPS) RWY 18, Amdt 3

Mc Grath, AK, PAMC, Takeoff Minimums and Obstacle DP, Amdt 2C

Quinhagak, AK, PAQH, RNAV (GPS) RWY 30, Amdt 1A

Decatur, AL, KDCU, ILS OR LOC RWY 18, Amdt 1B

Decatur, AL, KDCU, ILS Y OR LOC Y RWY 18, Orig, CANCELLED

Mobile, AL, KMOB, ILS OR LOC RWY 15, ILS RWY 15 (SA CAT I), ILS RWY 15 (SA CAT II), Amdt 32A

Mobile, AL, KMOB, ILS OR LOC RWY 33, Amdt 7C

Mobile, AL, KMOB, RADAR-1, Amdt 5B

Mobile, AL, KMOB, RNAV (GPS) RWY 15, Amdt 2C

Mobile, AL, KMOB, RNAV (GPS) RWY 18, Amdt 1C

Mobile, AL, KMOB, RNAV (GPS) RWY 33, Amdt 2D

Mobile, AL, KMOB, RNAV (GPS) RWY 36, Amdt 1D

Benton, AR, KSUZ, ILS OR LOC RWY 2, Amdt 1

Benton, AR, KSUZ, RNAV (GPS) RWY 2, Amdt 1

Benton, AR, KSUZ, RNAV (GPS) RWY 20, Amdt 1

Burlington, CO, KITR, RNAV (GPS) RWY 33, Orig

Jacksonville, FL, KJAX, ILS Y OR LOC Y RWY 14, Amdt 7C

Miami, FL, KMIA, ILS OR LOC RWY 26L, Amdt 18

Miami, FL, KMIA LOC RWY 26R, Amdt 2

Miami, FL, KMIA, RNAV (GPS) RWY 26R, Amdt 5

Miami, FL, KMIA, RNAV (GPS) Y RWY 26L, Amdt 4

Canton, GA, KCNI, NDB RWY 5, Amdt 4B, CANCELLED

Gainesville, GA, KGVL, NDB RWY 5, Amdt 5D, CANCELLED

Coeur D'Alene, ID, KCOE, RNAV (GPS) RWY 2, Orig-A

Effingham, IL, 1H2, RNAV (GPS) RWY 1, Orig-E

Fairfield, IL, KFWC, NDB RWY 9, Amdt 3D

Flora, IL, KFOA, LOC RWY 21, Orig-G

Robinson, IL, KRSV, RNAV (GPS) RWY 9, Amdt 1B

Robinson, IL, KRSV, RNAV (GPS) RWY 17, Orig-B

Robinson, IL, KRSV, RNAV (GPS) RWY 27, Amdt 1B

South Bend, IN, KSBN, ILS OR LOC RWY 9R, Amdt 10B

South Bend, IN, KSBN, ILS OR LOC RWY 27L, ILS RWY 27L (SA CAT I), ILS RWY 27L (CAT II), Amdt 36A

South Bend, IN, KSBN, RNAV (GPS) RWY 9L, Amdt 1B

South Bend, IN, KSBN, RNAV (GPS) RWY 9R, Amdt 1B

South Bend, IN, KSBN, RNAV (GPS) RWY 18, Amdt 1C

South Bend, IN, KSBN, RNAV (GPS) RWY 27L, Orig-C

South Bend, IN, KSBN, RNAV (GPS) RWY 27R, Amdt 1A

South Bend, IN, KSBN, RNAV (GPS) RWY 36, Amdt 1B

South Bend, IN, South Bend Intl, Takeoff Minimums and Obstacle DP, Amdt 9A

Dodge City, KS, KDDC, VOR RWY 32, Amdt 5C

Hugoton, KS, KHQG, RNAV (GPS) RWY 2, Orig-B

Hugoton, KS, KHQG, RNAV (GPS) RWY 20, Orig-B

Hugoton, KS, KHQG, Takeoff Minimums and Obstacle DP, Amdt 2

Pittsburg, KS, KPTS, RNAV (GPS) RWY 4, Amdt 2

Pittsburg, KS, KPTS, VOR RWY 4, Amdt 3G, CANCELLED

Jackson, KY, KJKL, RNAV (GPS) RWY 1, Amdt 1

Lewisport, KY, KY8, RNAV (GPS) RWY 23, Amdt 2

Lewisport, KY, KY8, Takeoff Minimums and Obstacle DP, Amdt 1

Mayfield, KY, M25, RNAV (GPS) RWY 19, Amdt 2

New Orleans, LA, KMSY, ILS OR LOC RWY 2, Amdt 20A

New Orleans, LA, KMSY, RNAV (RNP) Z RWY 11, Amdt 1B

Frederick, MD, KFDK, RNAV (GPS) RWY 5, Amdt 1

Carrabassett, ME, B21, RNAV (GPS)-A, Amdt 1B

Majuro Atoll, MH, PKMJ, RNAV (GPS) RWY 7, Orig-F

Majuro Atoll, MH, PKMJ, RNAV (GPS) RWY 25, Orig-F

Detroit, MI, KYIP, ILS OR LOC RWY 5, Orig

Detroit, MI, KYIP, ILS OR LOC RWY 5R, Amdt 16, CANCELLED

Detroit, MI, KYIP, ILS OR LOC RWY 23, Orig

Detroit, MI, KYIP, ILS OR LOC RWY 23L, Amdt 8, CANCELLED

Detroit, MI, KYIP, RNAV (GPS) RWY 5, Orig

Detroit, MI, KYIP, RNAV (GPS) RWY 5R, Amdt 2, CANCELLED

Detroit, MI, KYIP, RNAV (GPS) RWY 23, Orig

Detroit, MI, KYIP, RNAV (GPS) RWY 23L, Amdt 2, CANCELLED

Detroit, MI, Willow Run, Takeoff Minimums and Obstacle DP, Amdt 11

Escanaba, MI, KESC, ILS OR LOC RWY 9, Amdt 3A

Iron Mountain Kingsford, MI, KIMT, RNAV (GPS) RWY 1, Orig-C

Iron Mountain Kingsford, MI, KIMT, RNAV (GPS) RWY 19, Orig-C

Iron Mountain Kingsford, MI, KIMT, VOR RWY 31. Amdt 16C

Menominee, MI, KMNM, ILS OR LOC RWY 3, Amdt 3A

Menominee, MI, KMNM, VOR-A, Amdt 3C, CANCELLED

Troy, MI, KVLL, RNAV (GPS) RWY 10, Amdt 3A

Troy, MI, KVLL, Takeoff Minimums and Obstacle DP, Amdt 4B

Detroit Lakes, MN, KDTL, VOR RWY 14, Amdt 2, CANCELLED

Cleveland, OH, KBKL, ILS OR LOC RWY 24R, Amdt 2

Columbus, OH, KOSU, Takeoff Minimums and Obstacle DP, Orig-A

Miami, OK, KMIO, VOR/DME-A, Amdt 2C, CANCELLED

La Grande, OR, KLGD, NDB-B, Amdt 2A

Sunriver, OR, S21, RNAV (GPS) RWY 18, Amdt 1

Erie, PA, KERI, RNAV (GPS) RWY 24, Amdt 2A

Conway, SC, KHYW, NDB RWY 4, Orig-C, CANCELLED

Conway, SC, KHYW, NDB RWY 22, Amdt 1A, CANCELLED

Canadian, TX, KHHF, RNAV (GPS) RWY 4, Amdt 2A

Dumas, TX, KDUX, RNAV (GPS) RWY 1, Amdt 1

Dumas, TX, KDUX, RNAV (GPS) RWY 19, Amdt 1

Gruver, TX, E19, RNAV (GPS) RWY 2, Orig-B

Gruver, TX, E19, RNAV (GPS) RWY 20, Orig-C

Pampa, TX, KPPA, RNAV (GPS) RWY 17, Orig-C

Pampa, TX, KPPA, VOR/DME-A, Amdt 3A, CANCELLED

Panhandle, TX, T45, RNAV (GPS) RWY 17, Orig-C

Perryton, TX, KPYX, RNAV (GPS) RWY 17, Orig-D

Spearman, TX, E42, VOR/DME RWY 2, Amdt 1, CANCELLED

Pasco, WA, KPSC, ILS OR LOC RWY 21R, Amdt 13C

Pasco, WA, KPSC, VOR RWY 30, Amdt 5C

Richland, WA, KRLD, LOC RWY 19, Amdt 9A

Sturgeon Bay, WI, KSUE, RNAV (GPS) RWY 20, Amdt 2

Sturgeon Bay, WI, KSUE, RNAV (GPS) RWY 28, Amdt 1

[FR Doc. 2022-10444 Filed 5-13-22; 8:45 am]

BILLING CODE 4910-13-P